DEPARTMENT OF THE INTERIOR

Fish and Wildlife Service

[FWS-R5-R-2009-N183; BAC-4311-K9-S3]

John Hay National Wildlife Refuge, Merrimack County, NH

AGENCY: Fish and Wildlife Service, Interior.

ACTION: Notice of availability: Draft comprehensive conservation plan and environmental assessment; request for comments.

SUMMARY: The U.S. Fish and Wildlife Service (Service) announces the availability of the draft comprehensive conservation plan (CCP) and draft environmental assessment (EA) for John Hay National Wildlife Refuge (NWR) for a 30-day public review and comment period. In this draft CCP/EA, we describe three alternatives, including our Service-preferred Alternative B, for managing this refuge for the next 15 years. Also available for public review and comment are the draft compatibility determinations, which are included as Appendix B in the draft CCP/EA.

DATES: To ensure our consideration of your written comments, please send them by March 22, 2010. We will also hold at least one public meeting in Newbury, New Hampshire, during the 30-day review period to receive comments and provide information on the draft plan. We will announce and post details about the public meeting in local news media via our project mailing list, and on our regional planning Web site, http://www.fws.gov/northeast/planning/johnhay/ccphome.html.

ADDRESSES: Send your comments or requests for more information by one of the following methods.

Electronic mail: northeastplanning@fws.gov. Include “John Hay NWR CCP/EA” in the subject line of the message.

U.S. Postal Service: Eastern Massachusetts NWR Complex, 73 Weir Hill Road, Sudbury, MA 01776.

In-person drop-off, viewing, or pickup: Call 978-443-4661 to make an appointment during regular business hours at the above address.

Facsimile: Attn: Carl Melberg, 978-443-2898.

FOR FURTHER INFORMATION CONTACT: Barry Parrish, Deputy Refuge Manager, Silvio O. Conte NFWR, 103 East Plumtree Road, Sunderland, MA 01375; phone: 413-548-8002 extension 113; or Carl Melberg, Planning Team Leader, at 978-443-4661, extension 32.

Agency Web site: View or download the draft document at http://www.fws.gov/northeast/planning/JohnHay/ccphome.html.

FOR FURTHER INFORMATION CONTACT: Barry Parrish, Deputy Refuge Manager, Silvio O. Conte NFWR, 103 East Plumtree Road, Sunderland, MA 01375; phone: 413-548-8002, extension 113; facsimile: 413-548-9725.

SUPPLEMENTARY INFORMATION:

Introduction

With this notice, we continue the CCP process for John Hay NWR in Merrimack County, New Hampshire, which we started with the notice of intent we published in the Federal Register (73 FR 76376) on December 16, 2008. We prepared the draft CCP in compliance with the National Environmental Policy Act of 1969 (NEPA), as amended (42 U.S.C. 4321 et seq.), and the National Wildlife Refuge System Administration Act of 1966 (Administration Act), as amended by the National Wildlife Refuge System Improvement Act of 1997 (Improvement Act), which requires us to develop a CCP for each national wildlife refuge. This refuge is a satellite station of the Silvio O. Conte National Fish and Wildlife Refuge.

John Hay NWR was the former summer estate of historic figure John Hay. It was donated to the Service in 1972 by Alice Hay to be used as a migratory bird and wildlife reservation. Currently, the refuge consists of approximately 80 acres on the shores of Lake Sunapee in Newbury, New Hampshire, and consists of upland northern forest, small meadows, and several wetland habitats, including a long, undeveloped lake shoreline, brook, fens, and vernal pools. The area serves the habitat needs of migrating birds as well as a diversity of other wildlife. No listed species are known to occur on the refuge. Although small in area, the refuge contains some of the largest-diameter white pine (and other northern forest tree species) in the regional landscape and provides habitat for Canada warbler and other priority forest birds and wildlife.

Although wildlife and habitat conservation is the refuge's first priority, the public can observe and photograph wildlife and participate in environmental education and interpretation on the refuge. Adjacent partner lands also accommodate these uses with a connected network of accessible nature trails. Some adjacent partner lands also allow hunting.

Background

The CCP Process

The Improvement Act requires us to develop a CCP for each national wildlife refuge. The purpose for developing CCPs is to provide refuge managers with 15-year plans for achieving refuge purposes and the mission of the National Wildlife Refuge System, in conformance with sound principles of fish and wildlife management, conservation, legal mandates, and our policies. In addition to outlining broad management direction on conserving wildlife and their habitats, CCPs identify priority wildlife-dependent recreational opportunities available to the public, including opportunities for hunting, fishing, wildlife observation, photography, and environmental education and interpretation. We will review and update each CCP at least every 15 years, in accordance with the Administration Act.

Public Outreach

In October 2008, we initiated intra-agency, State agency, stakeholder, and public scoping to obtain input on current and future management of the refuge. We held a morning and an afternoon public and partner meeting on October 9, 2008, at the Newbury Town Hall. During these meetings, we asked attendees specific questions about their views on the refuge's wildlife and habitat values, how they use and access the refuge, their preferences for future wildlife-dependent recreation, and whether they knew about other refuge opportunities. Our scoping process lasted until November 7, 2008.

Some of the key issues we identified include forest management, other priority habitat types to conserve, wetlands protection, improving the visibility of the Service and refuge, providing desired facilities and visitor activities, and ways to improve opportunities for public use while ensuring the restoration and protection of priority resources.

CCP Actions We Are Considering

We developed three management alternatives based on the purposes for establishing the refuge, its vision and goals, and the issues and concerns the public, State agencies, and the Service identified during the planning process. The alternatives have some actions in common, such as protecting and monitoring fish and wildlife species and the unique large white pines, controlling invasive plants and wildlife diseases, encouraging research that benefits our resource decisions, protecting cultural resources like the Hay Estate house and the view to the lake, updating the memorandum of understanding with our neighboring partner, The Fells, and distributing refuge revenue sharing payments to the Town of Newbury.

Other actions distinguish the alternatives. The draft CCP/EA describes the alternatives in detail, and relates them to the issues and concerns identified. Highlights are as follows:

Alternative A (Current Management)

This alternative is the “No Action” alternative required by the NEPA Act of 1969. Alternative A defines our current management activities, and serves as the baseline against which to compare the other alternatives. Our habitat management focuses on allowing natural processes to shape the almost 80 acres of mature upland forest to maintain the cultural legacy, encourage natural regeneration, and diversify the forest structure that supports migratory and nesting birds of conservation concern in Bird Conservation Region 14 and the New Hampshire Wildlife Action Plan (NHWAP) (including the Canada warbler and wood thrush). Natural processes would also shape the fens, vernal pools, and other wetland habitats on the refuge that provide important breeding habitat for amphibian and reptile species of conservation concern identified in the NHWAP.

We would continue to maintain the instream habitat and riparian corridor along the approximately 1,750 feet of Beech Brook on the refuge for species identified as conservation priorities by the Eastern Brook Trout Joint Venture and NHWAP plans, and we would continue to protect the 3,100 feet of undeveloped refuge shoreline and 0.1-acre Minute Island by preventing public use activities that may pose risks to the biological integrity of these habitats.

We would continue to work with our partners to monitor our forests and wetlands for invasive plants and disease, and we would treat the forests to fight invasive species and diseases if we have available funding and staffing. Our biological monitoring and inventory program and habitat and trail management would continue at its current minimal level, and would focus on safety and hazard tree removal only when necessary.

Our visitor services programs would not change, as most activities are conducted by The Fells. Wildlife observation and photography are the most popular activities. Our staffing and facilities would remain the same. Seven staff positions for the refuge complex would remain in place, and the headquarters would remain at the Sunderland Office.

Alternative B (Enhanced Visitor Services and Habitat Diversity—the Service-Preferred Alternative)

This alternative is the one we propose as the best way to manage this refuge over the next 15 years. It includes an array of management actions that, in our professional judgment, works best toward achieving the refuge purposes, our vision and goals, and the goals of other State and regional conservation plans. We also believe it most effectively addresses the key issues that arose during the planning process.

Similar to alternative A, under alternative B we would primarily allow natural processes to shape the refuge's forest habitat and would continue to work with partners to complement the larger landscape for priority species through partnerships. We would conduct forest inventories every 10 to 15 years to determine silvicultural prescriptions to encourage early successional forest habitat and pine regeneration, and to maintain the existing unique character of large-diameter trees. A habitat management plan would be completed within 1 year of CCP approval. The current meadow would be expanded up to approximately 3 acres, but not at the expense of mature forest habitat. A treatment schedule for maintaining the view to the lake from the Hay Estate house would be developed in partnership with The Fells and incorporate both scenic and wildlife habitat aspects that meet biological and cultural objectives for the area.

We would continue to monitor refuge forests and wetlands for invasive plants and disease, and to treat them to the extent our funding allows. Protecting and enhancing riparian and wetlands habitat would be a priority, including the undeveloped Lake Sunapee shoreline, Beech Brook, fens, and vernal pools. We would also continue our monitoring and inventory program, but regularly evaluate the results to help us better understand the implications of our management actions and identify ways to improve their effectiveness.

In addition to enhancing our existing programs in wildlife observation, photography, environmental education, and interpretation, we would open the refuge to fishing. We would also work with partners to accommodate hunting on their lands as part of a regional recreational program offering a diversity of wildlife-dependent public use opportunities. We would seek partnerships to help us achieve our enhanced and new programs, including assistance on interpretive trail construction and enhancements, and environmental education programs using the refuge as a living laboratory. The refuge would remain closed to hunting due to its small size and staffing constraints. We would also improve and expand access to the lake for freshwater fishing and enhance trails for environmentally sensitive stream crossings and access to additional habitats. If we can secure permanent funding, we would fill one new visitor services staff position to provide depth to our programs and achieve our goals and objectives. We also propose to collaborate with neighboring partner, The Fells, at their visitor contact facilities at the adjacent Fells gatehouse and parking lot to increase our visibility and improve public access to refuge land.

Alternative C (Forest Management Emphasis)

This alternative resembles Alternative B in its refuge administration and facilities, but differs in its habitat management intensity and visitor services programs.

Under Alternative C, we would actively manage for mature upland forest, including silvicultural prescriptions such as thinning or soil scarification to promote regeneration success. Additional early successional forest habitat would be provided by expanding the existing meadow and creating new meadows, but not at the expense of mature forest habitat. The width of The Fells view to the lake would be expanded to provide additional habitat for wildlife dependent upon early successional habitat, and increase the view from the estate house.

As in Alternative B, we would protect and enhance riparian and wetlands habitats as a priority. As in Alternative B, we would monitor and inventory our forests and wetlands for invasive plants and disease and treat them to the extent funding allows. Protecting and enhancing riparian and wetland habitats would also be a priority. Compared to Alternative B, we would conduct a more intensive, focused monitoring and inventory program designed to address more-specific questions about habitat quality and the response of wildlife populations. In the near-term, inventory and monitoring would be aimed specifically at documenting the species and habitat baseline conditions.

Under Alternative C, our public use programs would accommodate additional access with enhanced trail conditions to allow people of all abilities to access and view the lake. This Alternative explores the possibility of accommodating hunting by determining the feasibility of a very limited hunt program in collaboration with our State partners.

Public Meetings

The public will have the opportunity to provide input at one public meeting in Newbury, New Hampshire. We will release mailings, news releases, and announcements electronically and provide information about opportunities for public review and comment on our Web site and in local newspapers, along with the contact information below. You can obtain the schedule from the planning team leader or project leader (see ADDRESSES).

You may also submit comments anytime during the planning process by mail, electronic mail, or facsimile (see ADDRESSES). For specific information, including dates, times, and locations, contact the project leader (see ADDRESSES) or visit our Web site at http://www.fws.gov/northeast/planning/johnhay/ccphome.html.

Public Availability of Comments

Before including your address, phone number, e-mail address, or other personal identifying information in your comments, you should be aware that your entire comment—including your personal identifying information—may be made available to the public at any time. While you can ask us in your comment to withhold your personal identifying information from public review, we cannot guarantee that we will be able to do so.

Dated: January 8, 2010.
Wendi Weber,
Acting Regional Director, Northeast Region, U.S. Fish and Wildlife Service, Hadley, Massachusetts.

[FR Doc. 2010-3053 Filed 2-17-10; 8:45 am]

BILLING CODE 4310-55-P